DEPARTMENT OF HOMELAND SECURITY

Coast Guard

33 CFR Part 165

[Docket Number USCG-2025-0643]

RIN 1625-AA00

Safety Zone; Beltway 8 Bridge Construction, Houston Ship Channel, Houston, TX

AGENCY: Coast Guard, DHS.

ACTION: Notice of proposed rulemaking.

SUMMARY: The Coast Guard is proposing to establish a temporary safety zone for certain navigable waters of the Houston Ship Channel around the Beltway 8 Bridge (Sam Houston Tollway Ship Channel Bridge), during bridge construction and demolition activities. The temporary safety zone is needed to protect personnel, vessels, and the marine environment from potential hazards created by constructing a new bridge. Entry of vessels or persons into this zone is prohibited unless specifically authorized by the Captain of the Port, Sector Houston-Galveston. We invite your comments on this proposed rulemaking.

DATES: Comments and related material must be received by the Coast Guard on or before October 14, 2025.

ADDRESSES: You may submit comments identified by docket number USCG-2025-0643 using the Federal Docket Management System at https://www.regulations.gov. See the “Public Participation and Request for Comments” portion of the SUPPLEMENTARY INFORMATION section for further instructions on submitting comments. This notice of proposed rulemaking with its plain-language, 100-word-or-less proposed rule summary will be available in this same docket.

FOR FURTHER INFORMATION CONTACT: If you have questions about this proposed rulemaking, call or email Marine Science Technician Chief Petty Officer Anthony W. Booth, Sector Houston-Galveston Waterway Management Division, Coast Guard; Telephone (713) 398-5823, Email houstonwwm@uscg.mil.

SUPPLEMENTARY INFORMATION:

I. Table of Abbreviations

CFR Code of Federal Regulations

COTP Captain of the Port

DHS Department of Homeland Security

FR Federal Register

NPRM Notice of proposed rulemaking

§ Section

U.S.C. United States Code

II. Background, Purpose, and Legal Basis

On July 24, 2025, construction of the new Beltway 8 Bridge (Sam Houston Tollway Ship Channel Bridge) started over the navigable waters of the Houston Ship Channel. The Coast Guard previously published a short-term temporary safety zone to cover the initial phase of this construction, which covers only a small area along the north and south shorelines around the bridge (90 FR 35438, July 28, 2025). That safety zone expires on October 22, 2025, and a long-term safety zone is necessary to provide for safety during the remainder of the construction and demolition project. The Coast Guard is proposing this rulemaking under authority in 46 U.S.C. 70034.

The construction of the new Southbound and Northbound lanes, and demolition of the old Beltway 8 Bridge (Sam Houston Tollway Ship Channel Bridge) are estimated to be complete around March 2030. The Captain of the Port Sector Houston-Galveston (COTP) has determined that potential hazards associated with construction over the ship channel will be a safety concern for anyone transiting under the bridge. Hazards associated with this project include falling construction equipment, materials or other debris. The purpose of this rulemaking is to ensure the safety of vessels and the navigable waters during the construction of the new Beltway 8 Bridge (Sam Houston Tollway Ship Channel Bridge).

While this zone will be in effect for several years, the Coast Guard anticipates that the main navigable channel of the Houston Ship Channel will remain open for the majority of the time, and impact on vessel navigation will be minimal. During the times of overhead construction outside of the federal channel, vessels will be allowed to transit under the bridge only within the federal channel. The channel will be closed for a short period when the construction or demolition is actively occurring over the main federal channel, and these closures will be coordinated between stakeholders, the construction contractor and Sector Houston-Galveston. The Coast Guard will work closely with the project managers to ensure the public and waterway users are notified well in advance of any closure that will prohibit vessel navigation on the main channel.

III. Discussion of Proposed Rule

The COTP is proposing to establish a temporary safety zone from October 22, 2025 to March 1, 2030. The temporary safety zone would cover all navigable waters within the following four points on the north and south shore of the Houston Ship Channel around the Beltway 8 Bridge (Sam Houston Tollway Ship Channel Bridge) overhead construction: from the southeast corner at Point 1 at 29°44.033′ N 95°8.733′ W; thence west to Point 2 at 29°44.100′ N 95°8.833′ W; thence north to Point 3 at 29°44.267′ N 95°8.817′ W; thence east to Point 4 at 29°44.267′ N 95°8.717′ W; thence returning south to Point 1.

The duration of the zone is intended to ensure the safety of vessels and these navigable waters from hazards associated with bridge construction and demolition. While this area spans the width of the Houston Ship Channel, the safety zone will only be enforced in certain portions within this area where overhead construction is occurring. For most of the time this safety zone is effective, vessels will be permitted to transit through this area using the main navigation channel under the bridge. Vessel traffic will not be allowed to transit underneath where overhead construction is actively taking place, and small vessels will not be allowed to transit under the bridge outside of the main federal channel during construction. Vessel traffic on the main federal channel under the center of the bridge will be closed for a short period when the construction is actively occurring over this area. Closures will be coordinated between stakeholders, the construction contractor and Sector Houston-Galveston. No vessel or person would be permitted to enter the temporary safety zone without obtaining permission from the COTP or a designated representative. The regulatory text we are proposing appears at the end of this document.

IV. Regulatory Analyses

We developed this proposed rule after considering numerous statutes and Executive orders related to rulemaking. Below we summarize our analyses based on a number of these statutes and Executive orders.

A. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities for the following reasons. During the times of overhead construction outside of the federal channel, vessels will be allowed to transit under the bridge only within the federal channel. The channel will be closed for a short period when the construction or demolition is actively occurring over the main federal channel, and these closures will be coordinated between stakeholders, the construction contractor and Sector Houston-Galveston. The Coast Guard will work closely with the project managers to ensure the public and waterway users are notified well in advance of any closure that will prohibit vessel navigation on the main channel. While this zone will be in effect for several years, the Coast Guard (CG) anticipates that the main navigable channel will remain open for the majority of the effective period.

If you think that your business, organization, or governmental jurisdiction qualifies as a small entity and that this proposed rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the proposed rule would affect your small business, organization, or governmental jurisdiction and you have questions concerning its provisions or options for compliance, please call or email the person listed in the FOR FURTHER INFORMATION CONTACT section. The Coast Guard will not retaliate against small entities that question or complain about this proposed rule or any policy or action of the Coast Guard.

B. Collection of Information

This proposed rule would not call for a new collection of information under the Paperwork Reduction Act of 1995 (44 U.S.C. 3501-3520).

C. Federalism and Indian Tribal Governments

A rule has implications for federalism under Executive Order 13132 (Federalism), if it has a substantial direct effect on the States, on the relationship between the National Government and the States, or on the distribution of power and responsibilities among the various levels of government. We have analyzed this proposed rule under that Order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please call or email the person listed in the FOR FURTHER INFORMATION CONTACT section.

D. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the potential effects of this proposed rule elsewhere in this preamble.

E. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This proposed rule involves a temporary safety zone within four points on the north and south shore crossing the Houston Ship Channel around the Beltway 8 Bridge (Sam Houston Tollway Ship Channel Bridge) for the construction of the Southbound, Northbound lanes and demolition of the old Beltway 8 Bridge (Sam Houston Tollway Ship Channel Bridge) will be completed March 2030. While this zone will be in effect for several years, the Coast Guard (CG) anticipates that the main navigable channel will remain open for the majority of the effective period. Normally such actions are categorically excluded from further review under paragraph L60(a) of Appendix A, Table 1 of DHS Instruction Manual 023-01-001-01, Rev. 1. A preliminary Record of Environmental Consideration supporting this determination is available in the docket. For instructions on locating the docket, see the ADDRESSES section of this preamble. We seek any comments or information that may lead to the discovery of a significant environmental impact from this proposed rule.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Docket Management System at https://www.regulations.gov. To do so, go to https://www.regulations.gov, type USCG-2025-0643 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. Also, if you click on the Dockets tab and then the proposed rule, you should see a “Subscribe” option for email alerts. The option will notify you when comments are posted, or a final rule is published.

Personal information. We accept anonymous comments. Comments we post to https://www.regulations.gov will include any personal information you have provided. For more about privacy and submissions to the docket in response to this document, see DHS's eRulemaking System of Records notice (85 FR 14226, March 11, 2020).

List of Subjects in 33 CFR Part 165

Harbors, Marine safety, Navigation (water), Reporting and recordkeeping requirements, Security measures, Waterways.

For the reasons discussed in the preamble, the Coast Guard is proposing to amend 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 1.4.

2. Add § 165.T08-0643 to read as follows:

§ 165.T08-0643 Safety Zone; Beltway 8 Bridge Construction, Houston Ship Channel, Houston, TX.

(a) Location. The following area is a safety zone: All navigable waters within the area encompassed by a line connecting the following points on the north and south shore of the Houston Ship Channel around the Beltway 8 Bridge (Sam Houston Tollway Ship Channel Bridge): Point 1 is the southeast corner at 29°44.033′ N 95°8.733′ W; thence west to Point 2 at 29°44.100′ N 95°8.833′ W; thence north to Point 3 at 29°44.267′ N 95°8.817′ W; thence east to Point 4 at 29°44.267′ N 95°8.717′ W; thence south returning to Point 1.

(b) Definition. As used in this section, designated representative means Coast Guard Patrol Commanders, including Coast Guard coxswains, petty officers, and other officers operating Coast Guard vessels, and Federal, state, and local officers designated by or assisting the Captain of the Port Houston-Galveston (COTP) in the enforcement of the safety zone.

(c) Regulations. (1) Under the general safety zone regulations in subpart C of this part, you may not enter the safety zone described in paragraph (a) of this section while overhead bridge construction or demolition activities are occurring, unless authorized by the COTP or a designated representative.

(2) Persons or vessels seeking to enter the safety zone must request permission from the COTP on VHF-FM channel 16 or by telephone at 866-539-8114. Those in the safety zone must comply with all lawful orders or directions given to them by the COTP or the COTP's designated representative.

(d) Enforcement period. The zone will be effective until the project ends, estimated completion date of MARCH 01, 2030. That date should include some margin for error in case of delays. Specific enforcement times and areas within the zone will depend on construction or demolition activities, and the CG will provide advance notice to the public through BNMs, LNMs, and the VTS.

Dated: September 3, 2025.
Nicole D. Rodriguez,
Captain, U.S. Coast Guard, Captain of the Port Houston-Galveston, Texas.

[FR Doc. 2025-17504 Filed 9-10-25; 8:45 am]

BILLING CODE 9110-04-P